DEPARTMENT OF DEFENSE

Office of the Secretary

Meeting of the President's Information Technology Advisory Committee (Formerly the Presidential Advisory Committee on High Performance Computing and Communications, Information Technology, and the Next Generation Internet)

ACTION: Notice of meeting.

SUMMARY: This notice sets forth the schedule and summary agenda for the next meeting of the President's Information Technology Advisory Committee. The meeting will be open to the public. Notice of this meeting is required under the Federal Advisory Committee Act, (Pub. L. 92-463).

DATES: February 25, 2000.

ADDRESSES: NSF Board Room (Room 1235), National Science Foundation, 4201 Wilson Boulevard, Arlington, VA 22230.

PROPOSED SCHEDULE AND AGENDA: The President's Information Technology Advisory Committee (PITAC) will meet in open session from approximately 8:30 a.m. to 12:30 p.m. and 1:30 p.m. to 4:30 p.m. on February 25, 2000. This meeting will include: (1) Updates on PITAC's next steps and panels on: learning, digital libraries; open source software; government; healthcare; the digital divide; and international issues. (2) The Federal Budget for information technology research and development in FY 2001. (3) Information technology strategies in Federal agencies.

FOR FURTHER INFORMATION: The National Coordination Office for Computing, Information, and Communications provides information about this Committee on its web site at: http://www.ccic.gov; it can also be reached at (703) 306-4722. Public seating for this meeting is limited, and is available on a first-come, first-served basis.

Dated: January 28, 2000.
L.M. Bynum,
Alternate OSD Federal Register Liaison Officer, Department of Defense.

[FR Doc. 00-2298 Filed 2-2-00; 8:45 am]

BILLING CODE 5000-10-M